DEPARTMENT OF HEALTH AND HUMAN SERVICES

Administration for Children and Families

Proposed Information Collection Activity; Comment Request

Proposed Project:

Title: Exploration of Low-Income Couples' Decision-Making Processes.

OMB No.: New Collection.

Description: The Administration for Children and Families (ACF), U.S. Department of Health and Human Services (HHS), is proposing a data collection activity as part of the Exploration of Low-Income Couples' Decision-Making (CDM) Processes study. This project will gather important information that will be useful for improving social services delivery approaches for working with individuals in couple relationships. The proposed collection will consist of two elements: (1) Focus groups with low-income couples; and (2) a telephone survey and observation of low-income couples. These data collection efforts will examine sources of conflict and assess decision-making processes among low-income couples—especially in relation to issues directly addressed by social service programs (e.g., employment, housing).

Respondents: Low-income couples.

Annual Burden Estimates
Instrument | Annual number of respondents | Number of responses per respondent | Average burden hours per response | Estimated annual burden hours
Focus Group Discussion | 16 | 1 | 2 | 32
Telephone Survey | 80 | 1 | .333333 | 27
Home Visit Setup and Administration of Oral History Interview and Decision Payoff Ratings | 80 | 1 | .666666 | 53
Paper Tower Task | 80 | 1 | .5 | 40
Economic Decision Task—Revealed Differences | 80 | 1 | .25 | 20
Interpersonal Conflict Discussion | 80 | 1 | .25 | 20
Video Recall Task | 80 | 1 | .83 | 66

Estimated Total Annual Burden Hours: 258.

In compliance with the requirements of section 3506(c)(2)(A) of the Paperwork Reduction Act of 1995, the Administration for Children and Families is soliciting public comment on the specific aspects of the information collection described above. Copies of the proposed collection of information can be obtained and comments may be forwarded by writing to the Administration for Children and Families, Office of Administration, Office of Information Services, 370 L'Enfant Promenade, SW., Washington, DC 20447, Attn: ACF Reports Clearance Officer. E-mail address: infocollection@acf.hhs.gov. All requests should be identified by the title of the information collection.

The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: February 12, 2008.
Brendan C. Kelly,
Reports Clearance Officer.

[FR Doc. 08-777 Filed 2-20-08; 8:45 am]

BILLING CODE 4184-01-M